ENVIRONMENTAL PROTECTION AGENCY

[FRL-8206-1]

Clean Air Act Advisory Committee (CAAAC) Notice of Meeting; Request for Nominations for 2006 Clean Air Excellence Awards Program

AGENCY: Environmental Protection Agency (EPA).

ACTION: Notice.

SUMMARY: Pursuant to the Federal Advisory Committee Act (Pub. L. 92-463), notice is hereby given that the Clean Air Act Advisory Committee will hold its next open meeting on Thursday, September 14, 2006. The meeting is open to the public to attend and will begin at approximately 8:30 a.m. to 4 p.m. at the Marriott Crystal City at Reagan National Airport, 1999 Jefferson Davis Highway Arlington, VA 22202. The Subcommittee meetings will be held on September 12 and 13 starting approximately at 8:30 a.m to 4:30 p.m. at the same location as the full Committee. Seating will be available on a first come, first served basis. The Mobile Source Technical Review subcommittee will not meet at this time. The agenda for the full committee meeting will be posted on the CAAAC Web site: http://www.epa.gov/oar/caaac/. EPA established the Clean Air Excellence Awards Program in February, 2000. This is an annual awards program to recognize outstanding and innovative efforts that support progress in achieving clean air. This notice announces the competition for the Year 2006 program.

DATES: Clean Air Act Advisory Committee will hold its next open meeting on Thursday September 14, 2006, from approximately 8:30 a.m. to 3:30 p.m. Subcommittees will meet on Tuesday and Wednesday, September 12 and 13 at the same location. All submission of entries for the Clean Air Excellence Awards program must be postmarked by September 13, 2006.

ADDRESSES: CAAAC and its subcommittee meetings will be held at the Marriott Crystal City Hotel, 1999 Jefferson Davis Highway Arlington, VA 22202. Clean Air Excellence Awards submissions should be sent to Clean Air Excellence Awards, Attn. Mr. Pat Childers, U.S. EPA, Office of Air and Radiation (6102A), 1200 Pennsylvania Avenue, NW., Washington, DC 20004.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics Integration—Debbie Stackhouse, 919-541-5354; (2) Air Quality Management—Jeff Whitlow, 919-541-5523; and (3) Economic Incentives and Regulatory Innovations— Carey Fitzmaurice, 202-564-1667. Additional Information on these meetings, CAAAC and its Subcommittees can be found on the CAAAC Web site: http://www.epa.gov/oar/caaac/.

Concerning the Clean Air Excellence Awards program please use the CAAAC Web site and click on awards program or contact Mr. Pat Childers, U.S. EPA at 202-564-1082 or 202-564-1352 (Fax), mailing address: Office of Air and Radiation (6102A), 1200 Pennsylvania Avenue, NW., Washington, DC 20004.

Meeting Access: For information on access or services for individuals with disabilities, please contact Mr. Pat Childers at (202) 564-1082 or childers.pat@epa.gov. To request accommodation of a disability, please contact Mr. Childers, preferably at least 10 days prior to the meeting, to give EPA as much time as possible to process your request.

SUPPLEMENTARY INFORMATION: Awards Program Notice: Pursuant to 42 U.S.C. 7403(a)(1) and (2) and sections 103(a)(1) and (2) of the Clean Air Act (CAA), notice is hereby given that the EPA's Office of Air and Radiation (OAR) announces the opening of competition for the Year 2006 “Clean Air Excellence Awards Program” (CAEAP). The intent of the program is to recognize and honor outstanding, innovative efforts that help to make progress in achieving cleaner air. The CAEAP is open to both public and private entities. Entries are limited to the United States. There are five general award categories: (1) Clean Air Technology; (2) Community Action; (3) Education/Outreach; (4) Regulatory/Policy Innovations; (5) Transportation Efficiency Innovations; and two special awards categories: (1) Outstanding Individual Achievement Award. (2) Cross-Category Award. Awards are given on an annual basis and are for recognition only.

Entry Requirements: All applicants are asked to submit their entry on a CAEAP entry form, contained in the CAEAP Entry Package, which may be obtained from the Clean Air Act Advisory Committee (CAAAC) Web site at http://www.epa.gov/oar/caaac by clicking on Awards Program or by contacting Mr. Pat Childers, U.S. EPA at 202-564-1082 or 202-564-1352 (Fax), mailing address: Office of Air and Radiation (6102A), 1200 Pennsylvania Avenue, NW., Washington, DC 20004. The entry form is a simple, three-part form asking for general information on the applicant and the proposed entry; asking for a description of why the entry is deserving of an award; and requiring information from three (3) independent references for the proposed entry. Applicants should also submit additional supporting documentation as necessary. Specific directions and information on filing an entry form are included in the Entry Package.

Judging and Award Criteria: Judging will be accomplished through a screening process conducted by EPA staff, with input from outside subject experts, as needed. Members of the CAAAC will provide advice to EPA on the entries. The final award decisions will be made by the EPA Assistant Administrator for Air and Radiation. Entries will be judged using both general criteria and criteria specific to each individual category. There are four (4) general criteria: (1) The entry directly or indirectly (i.e., by encouraging actions) reduces emissions of criteria pollutants or hazardous/toxic air pollutants; (2) The entry demonstrates innovation and uniqueness; (3) The entry provides a model for others to follow (i.e., it is replicable); and (4) The positive outcomes from the entry are continuing/sustainable. Although not required to win an award, the following general criteria will also be considered in the judging process: (1) The entry has positive effects on other environmental media in addition to air; (2) The entry Demonstrates effective collaboration and partnerships; and (3) The individual or organization submitting the entry has effectively measured/evaluated the outcomes of the project, program, technology, etc. As previously mentioned, additional criteria will be used for each individual award category. These criteria are listed in the 2006 Entry Package.

Inspection of Committee Documents: The Committee agenda and any documents prepared for the meeting will be publicly available at the meeting. Thereafter, these documents, together with CAAAC meeting minutes, will be available by contacting the Office of Air and Radiation Docket and requesting information under docket OAR-2004-0075. The Docket office can be reached by telephoning 202-260-7548; FAX 202-260-4400.

Dated: August 2, 2006.
Patrick Childers,
Designated Federal Official for Clean Air Act Advisory Committee.

[FR Doc. E6-12637 Filed 8-3-06; 8:45 am]

BILLING CODE 6560-50-P